DEPARTMENT OF COMMERCE

International Trade Administration

[A-351-825, A-533-810, A-588-833, A-469-805]

Stainless Steel Bar From Brazil, India, Japan, and Spain: Continuation of Antidumping Duty Order (India) and Revocation of Antidumping Duty Orders (Brazil, Japan, and Spain)

AGENCY: Enforcement and Compliance, International Trade Administration, Department of Commerce.

SUMMARY: As a result of the determinations by the Department of Commerce (Commerce) and the International Trade Commission (ITC) that revocation of the antidumping duty order on stainless steel bar (SSB) from India would likely lead to a continuation or recurrence of dumping and material injury to an industry in the United States, Commerce is publishing a notice of continuation of the antidumping duty order. In addition, as a result of the ITC's determinations that revocation of the antidumping duty orders on SSB from Brazil, Japan, and Spain is not likely to lead to continuation or recurrence of material injury to an industry in the United States, Commerce is revoking the antidumping duty orders on SSB from Brazil, Japan, and Spain.

DATES: Antidumping Revocation (Brazil, Japan, and Spain): Effective August 9, 2017; Antidumping Continuation (India): Applicable October 3, 2018.

FOR FURTHER INFORMATION CONTACT: Ian Hamilton, AD/CVD Operations, Office V, Enforcement and Compliance, International Trade Administration, U.S. Department of Commerce, 1401 Constitution Avenue NW, Washington, DC 20230; telephone: (202) 482-4798.

SUPPLEMENTARY INFORMATION:

Background

On February 21, 1995, Commerce published the antidumping duty orders on SSB from Brazil, India, and Japan.¹ On March 2, 1995, Commerce published the antidumping duty order on SSB from Spain.² On July 3, 2017, Commerce published the notice of initiation of the fourth five-year (sunset) reviews of the antidumping duty orders on SSB from Brazil, India, Japan, and Spain, pursuant to section 751(c) of the Tariff Act of 1930, as amended (the Act).³

¹ See Antidumping Duty Orders: Stainless Steel Bar from Brazil, India, and Japan, 60 FR 9661 (February 21, 1995).

² See Amended Final Determination and Antidumping Duty Order: Stainless Steel Bar from Spain, 60 FR 11656 (March 2, 1995).

³ See Initiation of Five-Year (Sunset) Reviews, 82 FR 30844 (July 3, 2017).

Commerce conducted these sunset reviews on an expedited basis, pursuant to section 751(c)(3)(B) of the Act and 19 CFR 351.218(e)(1)(ii)(C)(2), because it received complete, timely, and adequate responses from a domestic interested party but no substantive responses from respondent interested parties. As a result of its reviews, Commerce determined that revocation of the antidumping duty orders would likely lead to a continuation or recurrence of dumping.⁴ Commerce, therefore, notified the ITC of the magnitude of the margins likely to prevail should the antidumping duty orders be revoked.

⁴ See Stainless Steel Bar from Brazil, India, Japan, and Spain: Final Results of the Expedited Sunset Reviews of the Antidumping Duty Orders, 82 FR 51393 (November 6, 2017) (Final Results) and accompanying Issues and Decision Memorandum.

On September 21, 2018, the ITC published its determinations, pursuant to section 751(c) and 752(a) of the Act, that revocation of the antidumping duty order on SSB from India would likely lead to a continuation or recurrence of material injury to an industry in the United States within a reasonably foreseeable time, but that revocation of the antidumping duty orders on SSB from Brazil, Japan, and Spain would not be likely to lead to continuation or recurrence of material injury within a reasonably foreseeable time.⁵

⁵ See Stainless Steel Bar from Brazil, India, Japan, and Spain: Investigation Nos. 731-TA-678, 679, 681, and 682 (Fourth Review), USITC Publication 4820 (September 2018); see also Stainless Steel Bar from Brazil, India, Japan, and Spain; Determination, 83 FR 47938 (September 21, 2018).

Scope of the Orders

The merchandise subject to the orders is SSB. For a complete description of the scope of these orders, see Appendices I and II of this notice.

Continuation of the Order on SSB From India

As a result of the determinations by Commerce and the ITC that revocation of the antidumping duty order on SSB from India would likely lead to a continuation or recurrence of dumping and material injury to an industry in the United States, pursuant to section 751(d)(2) of the Act and 19 CFR 351.218(a), Commerce hereby orders the continuation of the antidumping duty order on SSB from India. U.S. Customs and Border Protection (CBP) will continue to collect antidumping duty cash deposits at the rates in effect at the time of entry for all imports of subject merchandise.

The effective date of the continuation of the order will be the date of publication in the Federal Register of this notice of continuation. Pursuant to section 751(c)(2) of the Act, Commerce intends to initiate the next sunset review of the order not later than 30 days prior to the fifth anniversary of the effective date of continuation.

Revocation of the Antidumping Duty Orders on SSB From Brazil, Japan, and Spain

As a result of the determinations by the ITC that revocation of the antidumping duty orders on SSB from Brazil, Japan, and Spain would not be likely to lead to the continuation or recurrence of material injury to an industry in the United States, pursuant to section 751(d)(2) of the Act, Commerce is revoking the antidumping duty orders on SSB from Brazil, Japan, and Spain. Pursuant to section 751(d)(2) of the Act and 19 CFR 351.222(i)(2)(i), the effective date of revocation is August 9, 2017 (i.e., the fifth anniversary of the date of publication in the Federal Register of the notice of continuation of the antidumping duty Continuation of Orders).⁶

⁶ See Stainless Steel Bar from Brazil, India, Japan, and Spain: Continuation of Antidumping Duty Orders, 77 FR 47595 (August 9, 2012) (Continuation of Orders).

Cash Deposits and Assessment of Duties on SSB From Brazil, Japan, and Spain

Commerce intends to issue instructions to CBP, 15 days after publication of this notice, to terminate the suspension of liquidation and to discontinue the collection of cash deposits on entries of SSB from Brazil, Japan, and Spain entered, or withdrawn from warehouse, on or after August 9, 2017. Commerce intends to further instruct CBP to refund, with interest, all cash deposits on unliquidated entries made on or after August 9, 2017. Entries of subject merchandise made prior to the effective date of revocation will continue to be subject to suspension of liquidation and antidumping deposit requirements and assessments.

These sunset reviews and this notice are in accordance with section 751(c) of the Act and published pursuant to section 777(i)(1) of the Act and 19 CFR 351.218(f)(4).

Dated: September 27, 2018.
Gary Taverman,
Deputy Assistant Secretary for Antidumping and Countervailing Duty Operations, performing the non-exclusive functions and duties of the Assistant Secretary for Enforcement and Compliance.

Appendix I

Scope of the Order: Brazil, India, and Spain

The merchandise subject to the order is SSB. The term SSB with respect to the orders means articles of stainless steel in straight lengths that have been either hot-rolled, forged, turned, cold-drawn, cold-rolled or otherwise cold-finished, or ground, having a uniform solid cross section along their whole length in the shape of circles, segments of circles, ovals, rectangles (including squares), triangles, hexagons, octagons or other convex polygons. SSB includes cold-finished SSBs that are turned or ground in straight lengths, whether produced from hot-rolled bar or from straightened and cut rod or wire, and reinforcing bars that have indentations, ribs, grooves, or other deformations produced during the rolling process.

Except as specified above, the term does not include stainless steel semi-finished products, cut-length flat-rolled products (i.e., cut-length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes and sections. The SSB subject to the orders is currently classifiable under subheadings 7222.10.00, 7222.11.00, 7222.19.00, 7222.20.00, 7222.30.00 of the Harmonized Tariff Schedule of the United States (HTSUS). Although the HTSUS subheadings are provided for convenience and customs purposes, the written description of the scope of the order is dispositive.

Appendix II

Scope of the Order: Japan

The merchandise subject to the order is SSB. The term SSB with respect to the order means articles of stainless steel in straight lengths that have been either hot-rolled, forged, turned, cold-drawn, cold-rolled or otherwise cold-finished, or ground, having a uniform solid cross section along their whole length in the shape of circles, segments of circles, ovals, rectangles (including squares), triangles, hexagons, octagons or other convex polygons. SSB includes cold-finished SSBs that are turned or ground in straight lengths, whether produced from hot-rolled bar or from straightened and cut rod or wire, and reinforcing bars that have indentations, ribs, grooves, or other deformations produced during the rolling process.

Furthermore, effective for entries entered, or withdrawn for warehouse, for consumption on or after February 1, 2010, the term does not include one SSB product under Grade 304 and two types of SSB products under Grade 440C. (1) The Grade 304 product meets the following descriptions: round cross-section, cold finished, chrome plated (plating thickness 10 microns or greater), hardness of plating a minimum 750 HV on the Vickers Scale, maximum roundness deviation of 0.020 mm (based on circularity tolerance described in JIS B 0021 (1984)), in actual (measured) lengths from 2000 mm to 3005 mm, in nominal outside diameters ranging from 6 mm to 30 mm (diameter tolerance for any size from minus 0.010 mm to minus 0.053 mm). Tolerance can be defined as the specified permissible deviation from a specified nominal dimension; for example if the nominal outside diameter of the product entering is 6 mm, then the actual measured sizes should fall within 5.947 mm to 5.990 mm; (2) The first Grade 440C product meets the following descriptions: round cross-section, cold finished, heat treated through induction hardening, minimum Rockwell hardness of 56 Hardness of 56 HRC, maximum roundness deviation of 0.007 mm (based on circularity tolerance described in JIS B 0021 (1984)), in actual (measured) lengths from 500 mm to 3005 mm, in nominal outside diameters ranging from 3 mm to 38.10 mm (diameter tolerance for any size from 0.00 mm to minus 0.150 mm). Tolerance can be defined as the specified permissible deviation from a specified nominal dimension; for example if the nominal outside diameter of the product entering is 3 mm, then the actual measured sizes should fall within 2.850 mm to 3.000 mm; (3) The second Grade 440C product meets the following descriptions: round cross-section, cold finished, chrome plated (plating thickness 5 microns or greater), heat treated through induction hardening, minimum Rockwell Hardness of 56 HRC, maximum roundness deviation of 0.007 mm (based on circularity tolerance described in JIS B 0021 (1984)), in actual (measured) lengths from 2000 mm to minus 3005 mm, (diameter tolerance for any size from minus 0.004 mm to minus 0.020 mm). Tolerance can be defined as the specified permissible deviation from a specified nominal dimension; for example if the nominal outside diameter of the product entering is 6 mm, then the actual measured sizes should fall within 5.980 mm to 5.996 mm.

Except as specified above, the term does not include stainless steel semi-finished products, cut-length flat-rolled products (i.e., cut-length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes and sections. The SSB subject to the order is currently classifiable under subheadings 7222.10.00, 7222.11.00, 7222.19.00, 7222.20.00, 7222.30.00 of the Harmonized Tariff Schedule of the United States (HTSUS). Although the HTSUS subheadings are provided for convenience and customs purposes, the written description of the scope of the order is dispositive.

[FR Doc. 2018-21536 Filed 10-2-18; 8:45 am]

BILLING CODE 3510-DS-P